FEDERAL COMMUNICATIONS COMMISSION

Sunshine Act Meeting; Open Commission Meeting; Thursday, July 13, 2006

July 6, 2006.

The Federal Communications Commission will hold an Open Meeting on the subjects listed below on Thursday, July 13, 2006, which is scheduled to commence at 9:30 a.m. in Room TW-C305, at 445 12th Street, SW., Washington, DC.

Item No. | Bureau | Subject
1 | Office of Engineering and Technology | Title: Investigation of the Spectrum Requirements for Advanced Medical Technologies; Amendment of Parts 2 and 95 of the Commission's Rules to Establish the Medical Device Radio Communications Service at 401-402 and 405-406 MHz (RM-11271); DexCom, Inc. Request for Waiver of the Frequency Monitoring Requirements of the Medical Implant Communications Service Rules (ET Docket No. 05-213); Biotronik, Inc. Request for Waiver of the Frequency Monitoring Requirements for the Medical Implant Communications Service Rules (ET Docket No. 03-92).
|  | Summary: The Commission will consider a Notice of Proposed Rulemaking, Notice of Inquiry regarding rules governing medical devices that rely on radiocommunications for critical aspects of their functionality, and will consider the extension of current waivers of the existing rules held by Biotronik, Inc. and DexCom, Inc.
2 | Enforcement | Title: 1st Source Information Specialist, Inc., d/b/a LocateCell.com, Notice of Apparent Liability for Forfeiture.
|  | Summary: The Commission will consider a Notice of Apparent Liability for Forfeiture against 1st Source Information Specialist, Inc., d/b/a LocateCell.com, a databroker, for repeated failure to respond to Bureau directives to provide subpoenaed information in connection with the Commission's CPNI investigation.
3 | Media | Title: Applications for Consent to the Assignment and/or Transfer of Control of Licenses from Adelphia Communications Corporation (and subsidiaries, debtors-in-possession), Assignors, to Time Warner Cable Inc. (subsidiaries), Assignees; Adelphia Communications Corporation (and subsidiaries, debtors-in-possession), Assignors and Transferors, to Comcast Corporation (subsidiaries), Assignees and Transferees; Comcast Corporation (Transferor) to Time Warner Inc., Transferee; Time Warner Inc., Transferor, to Comcast Corporation, Transferee (MB Docket No. 05-192).
|  | Summary: The Commission will consider a Memorandum Opinion and Order regarding the applications of Adelphia Communications Corporation and subsidiaries, debtors-in-possession, Time Warner Inc., Time Warner Cable Inc. and Comcast Communications Corporation for consent to the acquisition by Time Warner Cable Inc. and Comcast Communications Corporation of substantially all of the domestic cable systems owned or managed by Adelphia.
4 | Media | Title: Digital Audio Broadcasting Systems and Their Impact on the Terrestrial Radio Broadcast Service.
|  | Summary: The Commission will consider a Second Report and Order, First Order on Reconsideration and Second Further Notice of Proposed Rulemaking regarding digital audio broadcasting (MM Docket No. 99-325).
5 | Consumer & Governmental Affairs | Title: Telecommunications Relay Services and Speech-to-Speech Services for Individuals with Hearing and Speech Disabilities (CG Docket No. 03-123).
|  | Summary: The Commission will consider a Further Notice of Proposed Rulemaking concerning the compensation of telecommunications relay providers from the Interstate TRS Fund.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 06-6160 Filed 7-7-06; 12:37 pm]

BILLING CODE 6712-01-P